FEDERAL RESERVE SYSTEM

Agency Information Collection Activities: Announcement Of Board Approval Under Delegated Authority And Submission To OMB

SUMMARY: Background. Notice is hereby given of the final approval of proposed information collection by the Board of Governors of the Federal Reserve System (Board) under OMB delegated authority, as per 5 CFR 1320.16 (OMB Regulations on Controlling Paperwork Burdens on the Public). Board-approved collections of information are incorporated into the official OMB inventory of currently approved collections of information. Copies of the OMB 83-I;s and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer -Cindy Ayouch--Division of Research and Statistics, Board of Governors of the Federal Reserve System, Washington, DC 20551 (202-452-3829).

OMB Desk Officer-Joseph Lackey--Office of Information and Regulatory Affairs, Office of Management and Budget, New Executive Office Building, Room 10235, Washington, DC 20503.

Final approval under OMB delegated authority of the extension for three years, without revision, of the following report:

Report title: Reporting and Disclosure Requirements in Connection with Regulation W (12 CFR Part 223 Transactions Between Member Banks and Their Affiliates)

Agency form number: Reg W

OMB Control number: 7100-0304

Frequency: Event-generated

Reporters: Insured depository institutions and uninsured member banks

Estimated annual reporting hours: 250 hours

Estimated average hours per response: Loan participation renewal notice, 2 hours. Acquisition notice, 6 hours. Internal corporate reorganization transactions notice, 6 hours. Section 23A additional exemption notice, 10 hours.

Estimated number of respondents: 45

Small businesses are affected.

General description of report: This information collection is required to evidence compliance with sections 23A and 23B of the Federal Reserve Act (12 U.S.C. 371c(f) and 371c-1(e)). Confidential and proprietary information collected for the purposes of the Loan Participation Renewal 12 CFR 223.15(b)(4) and Internal Corporate Reorganization Transactions 12 CFR 223.41(d)(2) notices may be protected under the authority of the Freedom of Information Act [5U.S.C. § 552(b)(4) and (b)(8)]. Section (b)(4) exempts information deemed competitively sensitive from disclosure and Section (b)(8) exempts information “contained in or related to examination, operating, or condition reports prepared by, on behalf of, or for the use of an agency responsible for the regulation or supervision of financial institutions.”

Abstract: On December 12, 2002, the Board of Governors of the Federal Reserve published a Federal Register notice adopting a final rule (Regulation W) to implement comprehensively sections 23A and 23B of the Federal Reserve Act and provide several new exemptions consistent with the purposes of the statute (67 FR 76603), effective April 1, 2003. The Paperwork Reduction Act section of this notice contained a request for public comment on the information collection in Reg W. The Federal Reserve did not receive any comments on this request. Pursuant to 5 CFR 1320.16 this is a final notice announcing the Board's approval of the information collection.

Board of Governors of the Federal Reserve System, June 27, 2003.
Jennifer J. Johnson
Secretary of the Board.

[FR Doc. 03-16882 Filed 7-2-03; 8:45 am]

BILLING CODE 6210-01-S